SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: July 1-31, 2024.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22 (f) for the time period specified above.

Water Source Approval—Issued Under 18 CFR 806.22(f)

1. RENEWAL—Chesapeake Appalachia, L.L.C.; Pad ID: Baumunk North B Drilling Pad; ABR-201406004.R2; Fox Township, Sullivan County, Pa.; Consumptive Use of Up to 7.5000 mgd; Approval Date: July 15, 2024.

2. RENEWAL—Chesapeake Appalachia, L.L.C.; Pad ID: Benscoter ; ABR-20090601.R3; Auburn Township, Susquehanna County, Pa.; Consumptive Use of Up to 7.5000 mgd; Approval Date: July 15, 2024.

3. RENEWAL—Chesapeake Appalachia, L.L.C.; Pad ID: Clark Drilling Pad; ABR-201406008.R2; Springville Township, Susquehanna County, Pa.; Consumptive Use of Up to 7.5000 mgd; Approval Date: July 15, 2024.

4. RENEWAL—Chesapeake Appalachia, L.L.C.; Pad ID: Evanchick; ABR-20090604.R3; Asylum Township, Bradford County, Pa.; Consumptive Use of Up to 7.5000 mgd; Approval Date: July 15, 2024.

5. RENEWAL—Chesapeake Appalachia, L.L.C.; Pad ID: Mowry; ABR-20090527.R3; Tuscarora Township, Bradford County, Pa.; Consumptive Use of Up to 7.5000 mgd; Approval Date: July 15, 2024.

6. RENEWAL—Chesapeake Appalachia, L.L.C.; Pad ID: Otten; ABR-20090526.R3; Asylum Township, Bradford County, Pa.; Consumptive Use of Up to 7.5000 mgd; Approval Date: July 15, 2024.

7. RENEWAL—Chesapeake Appalachia, L.L.C.; Pad ID: Przybyszewski; ABR-20090555.R3; Auburn Township, Susquehanna County, Pa.; Consumptive Use of Up to 7.5000 mgd; Approval Date: July 15, 2024.

8. RENEWAL—Chesapeake Appalachia, L.L.C.; Pad ID: SGL 12 O PAD; ABR-201906002.R1; Franklin Township, Bradford County, Pa.; Consumptive Use of Up to 7.5000 mgd; Approval Date: July 15, 2024.

9. RENEWAL—Chesapeake Appalachia, L.L.C.; Pad ID: Strom; ABR-20090602.R3; Monroe Township, Bradford County, Pa.; Consumptive Use of Up to 7.5000 mgd; Approval Date: July 15, 2024.

10. RENEWAL—Chesapeake Appalachia, L.L.C.; Pad ID: VanNoy; ABR-20090535.R3; Granville Township, Bradford County, Pa.; Consumptive Use of Up to 7.5000 mgd; Approval Date: July 15, 2024.

11. RENEWAL—Chesapeake Appalachia, L.L.C.; Pad ID: Vargson; ABR-20090605.R3; Granville Township, Bradford County, Pa.; Consumptive Use of Up to 7.5000 mgd; Approval Date: July 15, 2024.

12. RENEWAL—Chesapeake Appalachia, L.L.C.; Pad ID: WGC; ABR-201205014.R2; Albany Township, Bradford County, Pa.; Consumptive Use of Up to 7.5000 mgd; Approval Date: July 15, 2024.

13. RENEWAL—Chesapeake Appalachia, L.L.C.; Pad ID: Wissler Drilling Pad; ABR-201406005.R2; McNett Township, Lycoming County, Pa.; Consumptive Use of Up to 7.5000 mgd; Approval Date: July 15, 2024.

14. RENEWAL—Repsol Oil & Gas USA, LLC; Pad ID: SHEDDEN (01 013/043) D; ABR-20090603.R3; Troy Township, Bradford County, Pa.; Consumptive Use of Up to 6.0000 mgd; Approval Date: July 15, 2024.

15. RENEWAL—Seneca Resources Company, LLC; Pad ID: CRV D08-Pad G; ABR-201406007.R2; Norwich and Sargeant Townships, McKean County, Pa.; Consumptive Use of Up to 4.0000 mgd; Approval Date: July 15, 2024.

16. RENEWAL—Chesapeake Appalachia, L.L.C.; Pad ID: Czop Drilling Pad; ABR-201406009.R2; Fox Township, Sullivan County, Pa.; Consumptive Use of Up to 7.5000 mgd; Approval Date: July 26, 2024.

17. RENEWAL—Chesapeake Appalachia, L.L.C.; Pad ID: MTL; ABR-201906003.R1; Wyalusing Township, Bradford County, Pa.; Consumptive Use of Up to 7.5000 mgd; Approval Date: July 26, 2024.

18. RENEWAL—EQT ARO LLC; Pad ID: C.O.P. Tract 285 (1000); ABR-20090408.R3; Grugan Township, Clinton County, Pa.; Consumptive Use of Up to 5.0000 mgd; Approval Date: July 26, 2024.

19. RENEWAL—EQT ARO LLC; Pad ID: COP Tr 252 #1000H; ABR-20090444.R3; Grugan Township, Clinton County, Pa.; Consumptive Use of Up to 4.0000 mgd; Approval Date: July 26, 2024.

20. RENEWAL—EQT ARO LLC; Pad ID: COP Tract 285 (1001H, 1002H); ABR-20090413.R3; Grugan Township, Clinton County, Pa.; Consumptive Use of Up to 4.0000 mgd; Approval Date: July 26, 2024.

21. RENEWAL—Repsol Oil & Gas USA, LLC; Pad ID: DCNR 587 (02 001); ABR-20090609.R3; Ward Township, Tioga County, Pa.; Consumptive Use of Up to 6.0000 mgd; Approval Date: July 26, 2024.

22. RENEWAL—Repsol Oil & Gas USA, LLC; Pad ID: Guillaume 714; ABR-201206009.R2; Liberty Township, Tioga County, Pa.; Consumptive Use of Up to 6.0000 mgd; Approval Date: July 26, 2024.

23. RENEWAL—Repsol Oil & Gas USA, LLC; Pad ID: WILLIAMS (01 041/042) R; ABR-20090611.R3; Troy Township, Bradford County, Pa.; Consumptive Use of Up to 6.0000 mgd; Approval Date: July 26, 2024.

24. RENEWAL—Seneca Resources Company, LLC; Pad ID: CRV Pad C08-X; ABR-201406010.R2; Shippen Township, Cameron County, Pa.; Consumptive Use of Up to 4.0000 mgd; Approval Date: July 26, 2024.

25. RENEWAL—SWN Production Company, LLC; Pad ID: Humbert Pad (RU-8); ABR-201206003.R2; New Milford Township, Susquehanna County, Pa.; Consumptive Use of Up to 4.9990 mgd; Approval Date: July 26, 2024.

26. RENEWAL—XTO Energy Inc.; Pad ID: Jenzano; ABR-20090713.R3; Franklin Township, Lycoming County, Pa.; Consumptive Use of Up to 3.0000 mgd; Approval Date: July 26, 2024.

27. RENEWAL—XTO Energy Inc.; Pad ID: Temple; ABR-20090714.R3; Moreland Township, Lycoming County, Pa.; Consumptive Use of Up to 3.0000 mgd; Approval Date: July 26, 2024.

28. Blackhill Energy LLC; Pad ID: Black Sam Bellamy Well Pad; ABR-202407001; Springfield Township, Bradford County, Pa.; Consumptive Use of Up to 6.5000 mgd; Approval Date: July 29, 2024.

29. RENEWAL—Chesapeake Appalachia, L.L.C.; Pad ID: Welles 1; ABR-20090610.R3; Terry Township, Bradford County, Pa.; Consumptive Use of Up to 7.5000 mgd; Approval Date: July 29, 2024.

30. RENEWAL—XTO Energy Inc.; Pad ID: Marquardt; ABR-20090712.R3; Penn Township, Lycoming County, Pa.; Consumptive Use of Up to 3.0000 mgd; Approval Date: July 29, 2024.

31. RENEWAL—Chesapeake Appalachia, L.L.C.; Pad ID: Deremer; ABR-201407001.R2; Tuscarora Township, Bradford County, Pa.; Consumptive Use of Up to 7.5000 mgd; Approval Date: July 30, 2024.

32. RENEWAL—SWN Production Company, LLC; Pad ID: KOZIOL PAD; ABR-201206016.R2; New Milford Township, Susquehanna County, Pa.; Consumptive Use of Up to 4.9990 mgd; Approval Date: July 30, 2024.

33. RENEWAL—EQT ARO LLC; Pad ID: COP Tract 289 Pad A; ABR-20090410.R3; McHenry Township, Lycoming County, Pa.; Consumptive Use of Up to 4.0000 mgd; Approval Date: July 31, 2024.

Authority: Public Law 91-575, 84 Stat. 1509 et seq., 18 CFR parts 806 and 808.

Dated: August 9, 2024.
Jason E. Oyler,
General Counsel and Secretary to the Commission.

[FR Doc. 2024-18127 Filed 8-13-24; 8:45 am]

BILLING CODE 7040-01-P